DEPARTMENT OF HEALTH AND HUMAN SERVICES

Meeting of the Advisory Committee on Minority Health

AGENCY: Office of Minority Health, Office of the Secretary, U.S. Department of Health and Human Services.

ACTION: Notice of meeting.

SUMMARY: As stipulated by the Federal Advisory Committee Act, the U.S. Department of Health and Human Services (HHS) is hereby giving notice that the Advisory Committee on Minority Health (ACMH) will hold a meeting conducted as a webcast on December 16, 2024. This virtual meeting will be open to the public. Registration is required for the public to attend the meeting, provide comment, and/or distribute material(s) to ACMH members.

DATES: The virtual ACMH meeting will be held on December 16, 2024, from 2 p.m. to 3:30 p.m. eastern standard time (EST). If the Committee completes its work before 3:30 p.m. EST, the meeting will adjourn early.

ADDRESSES: The meeting will be held virtually and will be accessible by webcast. Instructions regarding webcast access and providing written public comments will be given after meeting registration occurs.

Any individual who wishes to participate in the virtual meeting should register using the Zoom registration link provided below by 5 p.m. EST on December 12, 2024. Instructions regarding participating in the call and providing written or verbal public comments will be provided after meeting registration occurs. Information about the meeting will be posted on the HHS Office of Minority Health (OMH) website: www.minorityhealth.hhs.gov. Information about ACMH activities can be found on the OMH website under the heading About OMH, Committees and Working Groups.

FOR FURTHER INFORMATION CONTACT: Violet Woo, Designated Federal Officer, Advisory Committee on Minority Health, OMH, HHS, Tower Building, 1101 Wootton Parkway, Suite 100, Rockville, Maryland 20852. Phone: 240-453-6816; email: OMH-ACMH@hhs.gov.

SUPPLEMENTARY INFORMATION: In accordance with Public Law 105-392, the ACMH was established to provide advice to the Deputy Assistant Secretary for Minority Health on the development of goals and program activities related to OMH's duties.

The topics to be discussed during the virtual meeting include finalizing: (1) meeting notes of the November 14-15, 2024 ACMH open meeting; and (2) recommendations on the implementation of the updated Office of Management and Budget (OMB) Federal race and ethnicity data collection standards (SPD 15) that is focused on opportunities for engagement with racial, ethnic, and Tribal community level organizations to support increased awareness of OMB SPD 15 and their intended goals within their communities. The final recommendations will be given to the Deputy Assistant Secretary for Minority Health to inform efforts related to engagement with racial, ethnic, and Tribal community level organizations to support increased awareness of OMB SPD 15 and their intended goals within their communities.

Any individual who wishes to attend the meeting must register via the Zoom registration link, https://www.zoomgov.com/webinar/register/WN_iZGnp8BWRQORITiqVcThzA, by 5 p.m. EST on December 12, 2024. Each registrant should provide their name, affiliation, phone number, email address, if they plan to provide either written or verbal comment, and whether they have requests for special accommodations, including sign language interpretation. After registering, registrants will receive an automated email response with the meeting connection link. The meeting connection link is unique to each registrant and should not be shared.

Members of the public will have an opportunity to provide comments at the meeting. Individuals should indicate during registration whether they intend to provide written or verbal comment. Public comments will be limited to two minutes per speaker during the time allotted. Individuals of the public may also submit and distribute electronic or printed statements or material(s) related to this meeting's topic. Written statements or material(s) should be double-spaced with one-inch margins and not exceed two pages in length. Any content beyond the two-page limit will not be presented to the Committee. Registered members of the public who plan to submit electronic and distribute electronic or printed public statements or material(s) related to the meeting's topic should email the material to OMH-ACMH@hhs.gov at least two (2) business days prior to the meeting.

Violet Woo,
Designated Federal Officer, Advisory Committee on Minority Health.

[FR Doc. 2024-28167 Filed 11-29-24; 8:45 am]

BILLING CODE 4150-29-P